DEPARTMENT OF LABOR

Office of the Secretary

Submission for OMB Review; Comment Request

August 8, 2002.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King on 202-693-4129 or E-Mail: King-Darrin@dol.gov.

Comments should be sent to Office of Information and Regulatory Affairs, Attn: OMB Desk Officer for OSHA, Office of Management and Budget, Room 10235, Washington, DC 20503 (202-395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration (OSHA).

Type of Review: Extension of a currently approved collection.

Title: Longshoring and Marine Terminal Operations—29 CFR parts 1917 and 1918.

OMB Number: 1218-0196.

Affected Public: Business or other for-profit; Not-for-profit institutions; State, Local, or Tribal Government; and Federal Government.

Frequency: Initially, on occasion, weekly, monthly, and annually.

Type of Response: Recordkeeping and third-party disclosure.

Number of Respondents: 748.

Number of Annual Responses: 149,670.

Average Time Per Response: Varies from 2 minutes to post a warning sign to 8 hours to mark a flat bed and low boy trailer with their cargo capacity.

Total Burden Hours: 36,688.

Total Annualized Capital/Startup Costs: $0.

Total Annual Costs (operating/maintaining systems or purchasing services): $0.

Description: 29 CFR parts 1917 and 1918 contain a number of collections of information requirements which are used by employers to ensure that employees are informed properly about the safety and health hazards associated with marine terminal and longshoring operations. These standards contain requirements related to the testing, certification and marking of specific types of cargo lifting appliances and associated cargo handling gear and other cargo handling equipment such as conveyors and industrial trucks. The collections of information required from employers by OSHA are necessary to reduce employee injuries and fatalities associated with cargo lifting gear, transfer of vehicular cargo, manual cargo handling, and exposure to hazardous atmospheres. The Agency uses the records developed in response to a number of the information collection requirements to find out if employers are complying adequately with the provisions of the standards.

Ira L. Mills,
Departmental Clearance Officer.

[FR Doc. 02-21407 Filed 8-21-02; 8:45 am]

BILLING CODE 4510-26-M